DEPARTMENT OF THE TREASURY

Submission for OMB Review; Comment Request

November 22, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 29, 2005 to be assured of consideration.

Departmental Office (DO)

OMB Number: 1505-0001.

Type of Review: Revision.

Title: Treasury International Capital Form S, “Purchases and Sales of Long-term Securities by Foreigners.”

Form: International Capital Form S.

Description: Form S is required by law and is designed to collect timely information on international portfolio capital movements, including foreigners' purchases and sales of long-term securities in transactions with U.S. persons. The information will be used in the computation of the U.S. balance of payments accounts and international investment position, as well as in the formulation of U.S. international financial and monetary policies.

Respondents: Business or other for-profit.

Estimated Total Burden Hours: 17,358 hours.

OMB Number: 1505-0199.

Type of Review: Revision.

Title: Treasury International Capital (TIC) Form D “Report of Holdings of, and Transactions in, Financial Derivatives Contracts with Foreign Residents.

Form: International Capital Form D.

Description: Form D is required by law and is designed to collect timely information on international portfolio capital movements, including U.S. residents' holdings of, and transactions in, financial derivatives contracts with foreign residents. The information will be used in the computation of the U.S. balance of payments accounts and international investment position, as well as in the formulation of U.S. international financial and monetary policies.

Respondents: Business or other for-profit.

Estimated Total Burden Hours: 5,490 hours.

Clearance Officer: Dwight Wolkow, (202) 622-1276, Department of Treasury, Room 4410-1440NYA, 1500 Pennsylvania Avenue, NW., Washington, DC 20220.

OMB Reviewer: Alexander T. Hunt, (202) 395-7316, Office of Management and Budget, Room 10235, New Executive Office Building, Washington, DC 20503.

Michael A. Robinson,
Treasury PRA Clearance Officer.

[FR Doc. E5-6673 Filed 11-28-05; 8:45 am]

BILLING CODE 4810-P